SECURITIES AND EXCHANGE COMMISSION

[File No. 500-1]

HydroGen Corp., QueryObject Systems Corp., Security Intelligence Technologies, Inc., Skins, Inc., SLM Holdings, Inc., Spring Creek Healthcare Systems, Inc., and Startech Environmental Corp.; Order of Suspension of Trading

September 10, 2013.

It appears to the Securities and Exchange Commission that there is a lack of current and accurate information concerning the securities of HydroGen Corp. because it has not filed any periodic reports since the period ended June 30, 2008.

It appears to the Securities and Exchange Commission that there is a lack of current and accurate information concerning the securities of QueryObject Systems Corp. because it has not filed any periodic reports since the period ended June 30, 2009.

It appears to the Securities and Exchange Commission that there is a lack of current and accurate information concerning the securities of Security Intelligence Technologies, Inc. because it has not filed any periodic reports since the period ended March 31, 2008.

It appears to the Securities and Exchange Commission that there is a lack of current and accurate information concerning the securities of Skins, Inc. because it has not filed any periodic reports since the period ended March 31, 2009.

It appears to the Securities and Exchange Commission that there is a lack of current and accurate information concerning the securities of SLM Holdings, Inc. because it has not filed any periodic reports since the period ended September 30, 2008.

It appears to the Securities and Exchange Commission that there is a lack of current and accurate information concerning the securities of Spring Creek Healthcare Systems, Inc. because it has not filed any periodic reports since the period ended September 30, 2011.

It appears to the Securities and Exchange Commission that there is a lack of current and accurate information concerning the securities of Startech Environmental Corp. because it has not filed any periodic reports since the period ended July 31, 2009.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on September 10, 2013, through 11:59 p.m. EDT on September 23, 2013.

By the Commission.
Jill M. Peterson,
Assistant Secretary.

[FR Doc. 2013-22301 Filed 9-10-13; 4:15 pm]

BILLING CODE 8011-01-P